DEPARTMENT OF TRANSPORTATION

Federal Aviation Administration

14 CFR Part 39

[Docket No. FAA-2013-0575; Directorate Identifier 2013-NE-21-AD]

RIN 2120-AA64

Airworthiness Directives; Turbomeca S.A. Turboshaft Engines

AGENCY: Federal Aviation Administration (FAA), DOT.

ACTION: Notice of proposed rulemaking (NPRM).

SUMMARY: We propose to adopt a new airworthiness directive (AD) for all Turbomeca S.A. ASTAZOU XIV B and XIV H engines. This proposed AD was prompted by reports of cracks on the 2nd-stage turbine disc. This proposed AD would require replacement of the 2nd-stage turbine disc. We are proposing this AD to prevent disc cracking, uncontained 2nd-stage turbine blade release, damage to the engine, and damage to the helicopter.

DATES: We must receive comments on this proposed AD by October 7, 2013.

ADDRESSES: You may send comments by any of the following methods:

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this proposed AD, contact Turbomeca, S.A., 40220 Tarnos, France; phone: 33 (0)5 59 74 40 00; telex: 570 042; fax: 33 (0)5 59 74 45 15. You may view this service information at the FAA, Engine & Propeller Directorate, 12 New England Executive Park, Burlington, MA. For information on the availability of this material at the FAA, call 781-238-7125.

Examining the AD Docket

You may examine the AD docket on the Internet at http://www.regulations.gov; or in person at the Docket Operations office between 9 a.m. and 5 p.m., Monday through Friday, except Federal holidays. The AD docket contains this proposed AD, the Mandatory Continuing Airworthiness Information (MCAI), the regulatory evaluation, any comments received, and other information. The street address for the Docket Operations office (phone: 800-647-5527) is the same as the Mail address provided in the ADDRESSES section. Comments will be available in the AD docket shortly after receipt.

FOR FURTHER INFORMATION CONTACT: Frederick Zink, Aerospace Engineer, Engine Certification Office, FAA, Engine & Propeller Directorate, 12 New England Executive Park, Burlington, MA 01803; phone: 781-238-7779; fax: 781-238-7199; email: frederick.zink@faa.gov.

SUPPLEMENTARY INFORMATION:

Comments Invited

We invite you to send any written relevant data, views, or arguments about this proposed AD. Send your comments to an address listed under the ADDRESSES section. Include “Docket No. FAA-2013-0575; Directorate Identifier 2013-NE-21-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2013-0111R1, dated June 3, 2013 (referred to hereinafter as “the MCAI), to correct an unsafe condition for the specified products. The MCAI states:

Some cracks have been reported on the second stage turbine disc of ASTAZOU XIV engines inducted into a Repair Centre. These cracks are located in the serrations of the disc. The results of the technical investigation concluded that the cracks were present on non-shot peened second stage turbine discs (discs on which AB 138 modification was not incorporated), and on second stage turbine discs that were shot peened during their service life (discs on which AB 138 modification was incorporated after initial service use without shot peening). Until now, no crack has been reported on second stage turbine discs shot peened since new, these discs accounting for more than half of all ASTAZOU XIV flight hours. It was not possible to clearly identify what caused the cracks.

This condition, if not corrected, could lead to some events of disc serrations rupture, possibly resulting in uncontained second stage turbine blade release with consequent damage to, and reduced control of, the helicopter.

You may obtain further information by examining the MCAI in the AD docket.

FAA's Determination and Requirements of This Proposed AD

These engines have been approved by the aviation authority of France, and are approved for operation in the United States. Pursuant to our bilateral agreement with the European Community, EASA has notified us of the unsafe condition described in the MCAI and service information referenced above. We are proposing this AD because we evaluated all information provided by EASA and determined the unsafe condition exists and is likely to exist or develop on other engines of the same type design. This proposed AD would require replacement of the 2nd-stage turbine disc.

Costs of Compliance

We estimate that this proposed AD affects 6 products of U.S. registry. We also estimate that it would take about 5 hours per product to comply with this proposed AD. The average labor rate is $85 per hour. Required parts cost about $6,560 per product. Based on these figures, we estimate the cost of the proposed AD on U.S. operators to be $41,910. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Turbomeca S.A.: Docket No. FAA-2013-0575; Directorate Identifier 2013-NE-21-AD.

(a) Comments Due Date

We must receive comments by October 7, 2013.

(b) Affected ADs

None.

(c) Applicability

This AD applies to all Turbomeca S.A. ASTAZOU XIV B and XIV H engines.

(d) Reason

This AD was prompted by reports of cracks on the 2nd-stage turbine disc. We are issuing this AD to prevent disc cracking, uncontained 2nd-stage turbine blade release, damage to the engine, and damage to the helicopter.

(e) Actions and Compliance

Unless already done, do the following actions.

(1) For ASTAZOU XIV B engines that have not incorporated AB 138 modification remove 2nd-stage turbine disk part number (P/N) 0265260270 as follows:

(i) For engines with 1,800 or more engine cycles since new (CSN) or since last overhaul (CSLO), remove 2nd-stage turbine disk P/N 0265260270 within 10 operating hours after the effective date of this AD.

(ii) For engines with less than 1,800 CSN or CSLO, remove 2nd-stage turbine disk P/N 0265260270 within 300 operating hours after the effective date of this AD or before 1800 CSN or CSLO, whichever comes first.

(2) For ASTAZOU XIV B engines that have incorporated AB 138 modification, remove 2nd-stage turbine disk P/N 0283270200 with P/N 0265260270 written or scratched onto the disk within 1,800 CSN or CSLO, or within 10 operating hours after the effective date of this AD, whichever occurs later.

(3) For ASTAZOU XIV H engines, remove 2nd-stage turbine disk P/N 0265260270 within 300 operating hours after the effective date of this AD.

(g) Alternative Methods of Compliance (AMOCs)

The Manager, Engine Certification Office, FAA, may approve AMOCs to this AD. Use the procedures found in 14 CFR 39.19 to make your request.

(h) Related Information

(1) For more information about this AD, contact Frederick Zink, Aerospace Engineer, Engine Certification Office, FAA, Engine & Propeller Directorate, 12 New England Executive Park, Burlington, MA 01803; phone: 781-238-7779; fax: 781-238-7199; email: frederick.zink@faa.gov.

(2) Refer to European Aviation Safety Agency Airworthiness Directive 2013-0111R1, dated June 3, 2013, for more information. You may examine the AD on the Internet at http://www.regulations.gov.

(3) Turbomeca S.A. Alert Mandatory Service Bulletin (MSB) No. A283 72 0809, Version A, dated May 16, 2013, and Turbomeca S.A. Alert MSB No. A283 72 0808, Version A, dated May 16, 2013, which are not incorporated by reference in this AD, can be obtained from Turbomeca S.A. using the contact information in paragraph (h)(4) of this AD.

(4) For service information identified in this AD, contact Turbomeca, S.A., 40220 Tarnos, France; phone: 33 (0)5 59 74 40 00; telex: 570 042; fax: 33 (0)5 59 74 45 15. You may view this service information at the FAA, Engine & Propeller Directorate, 12 New England Executive Park, Burlington, MA. For information on the availability of this material at the FAA, call 781-238-7125.

Issued in Burlington, Massachusetts, on July 19, 2013.
Colleen M. D'Alessandro,
Assistant Manager, Engine & Propeller Directorate, Aircraft Certification Service.

[FR Doc. 2013-18908 Filed 8-5-13; 8:45 am]

BILLING CODE 4910-13-P